DEPARTMENT OF HEALTH AND HUMAN SERVICES

Centers for Medicare & Medicaid Services

[Document Identifier: CMS-10434]

Agency Information Collection Activities: Submission for OMB Review; Comment Request

AGENCY: Centers for Medicare & Medicaid Services, Health and Human Services.

ACTION: Notice.

SUMMARY: On May 28, 2010, the Office of Management and Budget (OMB) issued Paperwork Reduction Act (PRA) guidance related to the “generic” clearance process. Generally, this is an expedited clearance process by which agencies may obtain OMB's approval of collection of information requests that are “usually voluntary, low-burden, and uncontroversial,” do not raise any substantive or policy issues, and do not require policy or methodological review. The process requires the submission of an overarching plan that defines the scope of the individual collections that may be submitted under that umbrella. This notice is intended to advise the public of our intent to extend OMB's approval of our MACPro (Medicaid and CHIP Program) umbrella and all of the individual generic collection of information requests that fall under that umbrella. This notice also provides the public with general instructions for obtaining documents that are associated with such collections and for submitting comments.

DATES: Comments must be received by May 23, 2024.

ADDRESSES:

Submitting Comments: When commenting, please reference the applicable collection's CMS ID number and/or the OMB control number (both numbers are listed below under the SUPPLEMENTARY INFORMATION caption). To be assured consideration, comments and recommendations must be submitted in any one of the following ways and by the applicable due date:

1. Electronically. We encourage you to submit comments through the Federal eRulemaking portal at the applicable web address listed below under the SUPPLEMENTARY INFORMATION caption under “Docket Information.” If needed, instructions for submitting such comments can be found on that website.

2. By regular mail. Alternatively, you can submit written comments to the following address:

CMS, Office of Strategic Operations and Regulatory Affairs (OSORA), Division of Regulations Development, Attention: CMS-10434/OMB 0938-1188, Room C4-26-05, 7500 Security Boulevard, Baltimore, MD 21244-1850.

Obtaining Documents: To obtain copies of supporting statements and any related forms and supporting documents for the collections listed in this notice, please refer to the following instructions:

1. We encourage you to access the Federal eRulemaking portal at the applicable web address listed below under the SUPPLEMENTARY INFORMATION caption under “Docket Information.” If needed, follow the online instructions for accessing the applicable docket and the documents contained therein.

FOR FURTHER INFORMATION CONTACT: For general information contact William N. Parham at 410-786-4669. For policy related questions, contact the individual listed below under the SUPPLEMENTARY INFORMATION caption under “Docket Information.”

SUPPLEMENTARY INFORMATION: Under the PRA (44 U.S.C. 3501-3520), Federal agencies must obtain approval from OMB for each collection of information that they conduct or sponsor. The term “collection of information” is defined in 44 U.S.C. 3502(3) and 5 CFR 1320.3(c). Generally, it applies to voluntary and mandatory requirements that are related to any one or more of the following activities: the collection of information, the reporting of information, the disclose of information to a third-party, and/or recordkeeping.

While there are some exceptions (such as collections having non-substantive changes and collections requesting emergency approval) section 3506(c)(2)(A) of the PRA requires Federal agencies to publish 60- and 30-day notices in the Federal Register and solicit comment on each of its proposed collections of information, including: new collections, extensions of existing collections, revisions of existing collections, and reinstatements of previously approved collections before submitting such collections to OMB for approval. To comply with this requirement, CMS is publishing this notice.

Interested parties are invited to submit comments regarding our burden estimates or any other aspect of the collection, including: the necessity and utility of the proposed information collection for the proper performance of our agency's functions; the accuracy of burden estimates; ways to enhance the quality, utility, and clarity of the information to be collected; and the use of automated collection techniques or other forms of information technology to minimize the information collection burden. See DATES and ADDRESSES for instructions for submitting comments.

While we will review all comments received, we may choose not to post off-topic or inappropriate comments. Otherwise, all comments will be posted without edit under the applicable docket number, including any personal information that the commenter provides. Our response to such comments will be posted at reginfo.gov under the applicable OMB control number.

Medicaid and CHIP Program (MACPro)

At this time, MACPro is made up of the main umbrella (see collection number 1 in the following list) and nine individual generic collections of information (see collection numbers 2 through 10 in the following list). Details such as the collection's requirements and burden estimates can be found in the collection's supporting statement and associated materials (see ADDRESSES for instructions for obtaining such documents).

Docket Information

1. Title: Medicaid and CHIP Program (MACPro)

Type of Request: Revision of a currently approved collection.

CMS ID Number: CMS-10434.

OMB Control Number: 0938-1188.

eRulemaking Docket ID Number: CMS-2023-0080.

Docket Web Address: https://www.regulations.gov/docket/CMS-2023-0080.

For Policy Related Questions, Contact: William N. Parham at 410-786-4669.

2. Title: Initial Application

Type of Request: Extension of a currently approved collection.

CMS ID Number: CMS-10434 #1.

OMB Control Number: 0938-1188.

eRulemaking Docket ID Number: CMS-2023-0081.

Docket Web Address: https://www.regulations.gov/docket/CMS-2023-0081.

For Policy Related Questions, Contact: Stephanie Bell at 410-786-0617.

3. Title: CHIP State Plan Eligibility

Type of Request: Extension of a currently approved collection.

CMS ID Number: CMS-10434 #2.

OMB Control Number: 0938-1188.

eRulemaking Docket ID Number: CMS-2023-0082.

Docket Web Address: https://www.regulations.gov/docket/CMS-2023-0082.

For Policy Related Questions, Contact: Stephanie Bell at 410-786-0617.

4. Title: Alternative Benefit Plans (ABPs)

Type of Request: Extension of a currently approved collection.

CMS ID Number: CMS-10434 #3.

OMB Control Number: 0938-1188.

eRulemaking Docket ID Number: CMS-2023-0083.

Docket Web Address: https://www.regulations.gov/docket/CMS-2023-0083.

For Policy Related Questions, Contact: Adrienne Delozier at 410-786-0278.

5. Title: Medicaid State Plan Eligibility

Type of Request: Extension of a currently approved collection.

CMS ID Number: CMS-10434 #15.

OMB Control Number: 0938-1188.

eRulemaking Docket ID Number: CMS-2023-0090.

Docket Web Address: https://www.regulations.gov/docket/CMS-2023-0090.

For Policy Related Questions, Contact: Suzette Seng at 410-786-4703.

6. Title: Health Home State Plan Amendment (SPA)

Type of Request: Extension of a currently approved collection.

CMS ID Number: CMS-10434 #22.

OMB Control Number: 0938-1188.

eRulemaking Docket ID Number: CMS-2023-0084.

Docket Web Address: https://www.regulations.gov/docket/CMS-2023-0084.

For Policy Related Questions, Contact: Mary Pat Farkas at 410-786-5731.

7. Title: Medicaid Adult and Child Core Set Measures

Type of Request: Extension of a currently approved collection.

CMS ID Number: CMS-10434 #26.

OMB Control Number: 0938-1188.

eRulemaking Docket ID Number: CMS-2023-0085.

Docket Web Address: https://www.regulations.gov/docket/CMS-2023-0085.

For Policy Related Questions, Contact: Virginia (Gigi) Raney at 410-786-6117.

8. Title: Maternal and Infant Health Quality

Type of Request: Extension of a currently approved collection.

CMS ID Number: CMS-10434 #45.

OMB Control Number: 0938-1188.

eRulemaking Docket ID Number: CMS-2023-0086.

Docket Web Address: https://www.regulations.gov/docket/CMS-2023-0086.

For Policy Related Questions, Contact: Virginia (Gigi) Raney at 410-786-6117.

9. Title: Health Home Core Sets

Type of Request: Extension of a currently approved collection.

CMS ID Number: CMS-10434 #47.

OMB Control Number: 0938-1188.

eRulemaking Docket ID Number: CMS-2023-0087.

Docket Web Address: https://www.regulations.gov/docket/CMS-2023-0087.

For Policy Related Questions, Contact: Mary Pat Farkas at 410-786-5731.

10. Title: Medicaid Extended Postpartum Coverage and Continuous Eligibility for Children

Type of Request: Extension of a currently approved collection.

CMS ID Number: CMS-10434 #77.

OMB Control Number: 0938-1188.

eRulemaking Docket ID Number: CMS-2023-0088.

Docket Web Address: https://www.regulations.gov/docket/CMS-2023-0088.

For Policy Related Questions, Contact: Alexa Turner at 410-786-8823.

William N. Parham, III,
Director, Division of Information Collections and Regulatory Impacts, Office of Strategic Operations and Regulatory Affairs.

[FR Doc. 2024-08658 Filed 4-22-24; 8:45 am]

BILLING CODE 4120-01-P